ENVIRONMENTAL PROTECTION AGENCY

40 CFR Part 52

[EPA-R08-OAR-2016-0585; FRL-9986-14-Region 8]

Approval and Promulgation of Air Quality Implementation Plans; State of Utah; Logan Nonattainment Area Fine Particulate Matter State Implementation Plan for Attainment of 2006 24-Hour Fine Particulate Matter National Ambient Air Quality Standards

AGENCY: Environmental Protection Agency (EPA).

ACTION: Final rule.

SUMMARY: The Environmental Protection Agency (EPA) is finalizing approval of the emissions inventory, modeled attainment demonstration, determination for Major Stationary Source Reasonably Available Control Technology (RACT), determination for On-Road Mobile Sources Reasonably Available Control Measures (RACM), determination for Cache County Inspection and Maintenance (I/M) Program as additional reasonable measures, determination for Off-Road Mobile Sources RACM, and the 2015 Motor Vehicle Emission Budgets (MVEB) portions of the attainment plan submitted by Utah on December 16, 2014, to address Clean Air Act (CAA or the Act) requirements for the 2006 24-hour fine particulate matter (PM2.5) national ambient air quality standards (NAAQS) in the Logan, Utah (UT)—Idaho (ID) Moderate PM2.5 nonattainment area. These actions are being taken under section 110 of the CAA.

DATES: This final rule is effective on December 24, 2018.

ADDRESSES: The EPA has established a docket for this action under Docket ID No. EPA-R08-OAR-2016-0585. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the For Further Information Contact section for additional availability information.

FOR FURTHER INFORMATION CONTACT: Crystal Ostigaard, Air Program, U.S. EPA, Region 8, Mailcode 8P-AR, 1595 Wynkoop Street, Denver, Colorado 80202-1129, (303) 312-6602, ostigaard.crystal@epa.gov.

SUPPLEMENTARY INFORMATION: Throughout this document “we,” means the EPA.

I. Background

On October 17, 2006 (71 FR 61144), the Environmental Protection Agency (EPA) revised the level of the 24-hour fine particulate matter (PM2.5) National Ambient Air Quality Standard (NAAQS), lowering the primary and secondary standards from the 1997 standard of 65 micrograms per cubic meter (µg/m³) to 35 µg/m³. On November 13, 2009 (74 FR 58688), the EPA designated three nonattainment areas in Utah for the 24-hour PM2.5 NAAQS of 35 µg/m³. These are the Salt Lake City, Utah (UT); Provo, UT; and Logan, UT-Idaho (ID) nonattainment areas. The State of Utah submitted the Logan, UT-ID Moderate PM2.5 state implementation plan (SIP) on December 16, 2014, to address the requirements under part D of title I of the Clean Air Act (CAA) for the Logan UT-ID PM2.5 nonattainment area.

On December 4, 2017 (82 FR 57183), the EPA proposed to approve portions of the December 16, 2014 Logan, UT-ID Moderate PM2.5 SIP submittal. Specifically, we proposed to approve:

• The 2010 base year and 2015 projection year emissions inventories;

• The modeled attainment demonstration;

• The RACM/RACT and additional reasonable measure determinations for on-road mobile, including the Cache County I/M Program, off-road mobile, and major stationary sources; and

• The direct PM2.5, nitrogen oxides (NOX) and volatile organic compound (VOC) MVEBs for 2015 and the MVEB trading mechanism.

Our proposal provides details on the EPA's evaluation of these portions of the State's submittal.

II. Response to Comments

The EPA received seven public comments on the proposed action. After reviewing the comments received, the EPA has determined that the comments, with the exception of a portion of one comment, fall outside the scope of our proposed action or fail to identify any material issue necessitating a response.

A portion of one comment (EPA-R08-OAR-2016-0585-0017) generally alleges that the EPA lacks actual measurements of what agriculture emits in the form of PM2.5, and that agriculture is not a major emitter of PM2.5. The comment states that the data used to develop “the inventory” was based on erroneous emission factors published by “CPA” ¹ for cattle feed yards, feed mills, grain elevators, and dust from farmers' field operations; however, according to the comment, there “has never been any actual PM-2.5 emission data taken on agricultural tillage equipment using EPA approved PM-2.5 samplers.” The comment also alleges that “wildfire emissions were not added to the data.”

¹ The comment does not define this acronym, but we assume the comment intended to refer to EPA.

Assuming that the comment is intended to refer to the emissions inventories that Utah prepared and submitted for the Logan, UT-ID Moderate PM2.5 SIP and that the EPA proposed to approve, we respond as follows. The comment alleges the use of “erroneous” emission factors without identifying any specific error in the emission factors. Under the SIP Requirements Rule, Utah was not required to run tests on agricultural tillage equipment to develop emissions inventories; instead the requirements for emissions inventories are set forth in 40 CFR 51.1008. See Fine Particulate Matter National Ambient Air Quality Standards: State Implementation Plan Requirements, 81 FR 58010, 58027-33 (Aug. 24, 2016). The comment does not indicate any way in which the inventories fail to meet those requirements. Finally, for the purposes of PM2.5 nonattainment areas such as the Logan, UT-ID area, wildfire emissions are generally accounted for through the EPA's Exceptional Events Rule,² not through emissions inventories.

² 40 CFR 50.14.

III. Final Action

For the reasons stated in our proposal, the EPA is finalizing approval of portions of Utah's SIP found at R307-110-10, Section IX Control Measures for Area and Point Sources, Part A, Fine Particulate Matter for the Logan, UT-ID nonattainment area and at SIP Subsection IX.A.23: Control Measures for Area and Point Sources, Fine Particulate Matter for the Logan, UT-ID nonattainment area. Specifically, we are approving the following portions of the Logan, UT-ID Moderate PM2.5 SIP submitted by the State on December 16, 2014:

• The 2010 base year and 2015 projection year emissions inventories;

• The modeled attainment demonstration;

• The RACM/RACT and additional reasonable measure demonstrations for on-road mobile, including the Cache County I/M Program, off-road mobile and major stationary sources; and

• The direct PM2.5, nitrogen oxides (NOX) and VOC MVEBs for 2015 and the MVEB trading mechanism.

IV. Incorporation by Reference

In this rule, the EPA is finalizing regulatory text that includes incorporation by reference. In accordance with requirements of 1 CFR 51.5, the EPA is finalizing the incorporation by reference of the approval of portions of the Logan, UT-ID PM2.5 Moderate SIP submitted by the State of Utah as discussed in the proposed rule. The EPA has made, and will continue to make, these materials generally available through www.regulations.gov and at the EPA Region 8 Office (please contact the person identified in the For Further Information Contact section of this preamble for more information). Therefore, these materials have been approved by the EPA for inclusion in the state implementation plan, have been incorporated by reference by the EPA into that plan, are fully federally enforceable under sections 110 and 113 of the CAA as of the effective date of the final rulemaking of the EPA's approval, and will be incorporated by reference in the next update to the SIP compilation.³

³ 62 FR 27968 (May 22, 1997).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this final action:

• Is not a “significant regulatory action” subject to review by the Office of Management and Budget under Executive Order 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 22, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ammonia, Incorporation by reference, Intergovernmental relations, Nitrogen dioxide, Particulate matter, Reporting and recordkeeping requirements, Sulfur dioxide, Volatile organic compounds.

Dated: November 16, 2018.
Douglas Benevento,
Regional Administrator, EPA, Region 8.

40 CFR part 52 is amended as follows:

PART 52—APPROVAL AND PROMULGATION OF IMPLEMENTATION PLANS

1. The authority citation for part 52 continues to read as follows:

Authority: 42 U.S.C. 7401 et seq.

Subpart TT—Utah

2. Section 52.2320 is amended by:

a. Revising the entry for “R307-110-10” in the table in paragraph (c); and

b. Adding the entry, in numerical order, “Section IX.A.23. Fine Particulate Matter, PM2.5 SIP for the Logan, UT-ID Nonattainment Area” in the table in paragraph (e).

The revision and addition reads as follows:

§ 52.2320 Identification of plan.

* * * * *

(c) * * *

Rule No. | Rule title | State effective date | Final rule citation, date | Comments
* * * * * * *
R307-110. General Requirements: State Implementation Plan
* * * * * * *
R307-110-10 | Section IX. Control Measures for Area and Point Sources, Part A, Fine Particulate Matter | 12/4/2014 | [Insert Federal Register citation], 11/23/2018
* * * * * * *

* * * * *

(e) * * *

Rule title | State effective date | Final rule citation, date | Comments
* * * * * * *
IX. Control Measures for Area and Point Sources
* * * * * * *
Section IX.A.23. Fine Particulate Matter, PM2.5 SIP for the Logan, UT-ID Nonattainment Area | 12/4/2014 | [Insert Federal Register citation], 11/23/2018 | Except for Chapters 1-3, Area Sources found in Chapter 6.6, Chapter 8 and Chapter 9.
* * * * * * *

[FR Doc. 2018-25486 Filed 11-21-18; 8:45 am]

BILLING CODE 6560-50-P